DEPARTMENT OF JUSTICE

Notice of Proposed Prospective Purchaser Agreement Pursuant to the Comprehensive Environmental Response, Compensation and Liability Act of 1980 and the Resource Conservation and Recovery Act

In accordance with the Comprehensive Environmental Response, Compensation, and Liability Act of 1980, as amended by the Superfund Amendments and Reauthorization Act of 1986 (“CERCLA”), 42 U.S.C. 9601-9675, and section 7003 of the Solid Waste Disposal Act, commonly referred to as the Resource Conservation and Recovery Act of 1976, as amended by the Hazardous and Solid Waste Amendments of 1984 (“RCRA”), 42 U.S.C. 6973, notice is hereby given of the execution of a proposed prospective purchaser agreement (“Purchaser Agreement”), associated with a commercial property located in Waynesboro, Virginia and presently owned by Genicom, Inc. (“Site”). The Purchaser Agreement has been executed by the Environmental Protection Agency (“EPA”), the Department of Justice, and the prospective purchaser, Solutions Way Management of Huntington, West Virginia.

Genicom is a debtor in bankruptcy which has liquidated all of its assets other than certain accounts receivable, causes of action and the Site. Since entering bankruptcy in March, 2000, Genicom has continued to comply with a unilateral administrative order (“UAO”) issued against it by EPA in 1990 under Section 3008(h) of RCRA, 42 U.S.C. 6928(h), with the financial assistance of a former owner of the Site. In the near future, Genicom will have no remaining assets to continue its compliance efforts. Solutions Way Management is the only entity that has shown any substantial interest in purchasing the Site. If the Site is not sold to Solutions Way Management, Genicom will seek to abandon it under 11 U.S.C. 554.

The property subject to the Purchaser Agreement is located at Genicom Drive in Waynesboror, adjacent to the east side of the South River. Volatile organic compounds, such as trichloroethene, 1,2 dicholorethene and 1,1,1 trichloroethane were released into the environment at the Site during a period of approximately 30 years, ending in the 1980s. As a result, soil and groundwater at the Site have been contaminated. Aeration is being used at the Site to reduce or eliminate groundwater contamination. One solid waste management unit (“SWMU”) at the Site, where two waste lagoons were formerly located, has been capped and is regulated under a closure permit that was issued in 1999 by the Commonwealth of Virginia's Department of Environmental Quality. It is expected that a permanent remedy for the Site will be proposed within a period of a few months.

Under the terms of the Purchaser Agreement, the purchaser will inspect and maintain the cap for the SWMU referred to above, maintain records at the Site, be responsible for Site security, and submit detailed work, sampling and analytical plans to EPA in any instance were it proposes to develop the Site. In return, the purchaser will receive a covenant not to sue under Sections 106 and 107 of CERCLA, 42 U.S.C. 9606 and 9607, and Sections 3008(h) and 7003 of the Resource Conservation and Recovery Act (“RCRA”), 42 U.S.C. 6928(h) and 6973. Since EPA has incurred no CERCLA response costs at the facility to date, the purchaser will not be making a cash payment in the United States.

DATES: Comments must be submitted on or before May 30, 2001. Comments should be submitted to Region III, U.S. Environmental Protection Agency, 1650 Arch Street, Philadelphia, PA 19103, ATTN: Kathleen Root, Esq. The Agency's response to any comments received will be available for public inspection at the U.S. Environmental Protection Agency, Region III, 1650 Arch Street, Philadelphia, PA 19103.

AVAILABILITY: The proposed Purchaser Agreement and additional background information relating to the proposed Purchaser Agreement are available for public inspection at the U.S. Environmental Protection Agency, Region III, 1650 Arch Street, Philadelphia, PA 19103. A copy of the proposed Purchaser Agreement may be obtained from Suzanne Canning, U.S. Environmental Protection Agency, Regional Docket Clerk (3RC00), 1650 Arch Street, Philadelphia, PA 19103. Comments should reference the “Genicom RCRA Site Prospective Purchaser Agreement” and “EPA Docket No. RCRA-03-2001-0272 and should be forwarded to Suzanne Canning at the above address.

FOR FURTHER INFORMATION CONTACT: Kathleen Root (3RC43), Sr. Assistant Regional Counsel, U.S. Environmental Protection Agency, 1650 Arch Street, Philadelphia, PA 19103, Phone: (215) 814-2684.

Robert Brook,
Department of Justice, Assistant Section Chief, Environmental Enforcement Section, Environmental and Natural Resources Division.

[FR Doc. 01-12392 Filed 5-16-01; 8:45 am]

BILLING CODE 4410-15-M